DEPARTMENT OF ENERGY

Federal Energy Regulatory Commission

[Docket No. CP09-21-000]

Carolina Gas Transmission Corporation; Notice of Request Under Blanket Authorization

November 17, 2008.

Take notice that on November 7, 2008, Carolina Gas Transmission Corporation (CGT), 1426 Main Street, Columbia, South Carolina 29201, filed with the Commission in docket number CP09-21-000, a prior notice request pursuant to sections 157.205 and 157.214, Subpart F (2008), of the Commission's Regulations under the Natural Gas Act, and CGT's blanket certificate issued in Docket No. CP06-72-000, to construct and operate a delivery point located in Effingham County, Georgia to serve Georgia Pacific Consumer Products LP facility. The construction of this delivery point will constitute a bypass of Atlanta Gas Light, a local distribution company that currently is serving the Georgia-Pacific facility. CTG's facilities will have the capability of delivering up to 15,000 Dth per day. The estimated construction costs for these facilities are $194,385, all as more fully set forth in the application which is on file with the Commission and open to public inspection. The filing may also be viewed on the Web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Randy D. Traylor, Jr., Manager of Engineering—Capital Projects, Carolina Gas Transmission Corporation, 601 Old Taylor Road, Cayce, South Carolina 29033, at (803) 217-2255 or by e-mail dtraoylor@scana.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E8-27689 Filed 11-20-08; 8:45 am]

BILLING CODE 6717-01-P